DEPARTMENT OF ENERGY

Federal Energy Regulatory Commission

Notice of Application for Non-Project Use of Project Lands and Waters and Soliciting Comments, Motions to Intervene, and Protests

December 14, 2006.

Take notice that the following application has been filed with the Commission and is available for public inspection:

a. Application Type: Non-Project Use of Project Lands and Waters.

b. Project No: 2145-077.

c. Date Filed: November 30, 2006.

d. Applicant: Public Utility District No. 1 of Chelan County, Washington.

e. Name of Project: The Rocky Reach Hydroelectric Project.

f. Location: The Rocky Reach Project is located on the Columbia River in the Town of Entiat, Chelan County, Washington. The proposed action would remove 40.35 acres from the project boundary within Daroga State Park, and would add 21.87 acres to the project near Chelan Falls.

g. Filed Pursuant to: Federal Power Act, 16 U.S.C. 791 (a) 825(r) and 799 and 801.

h. Applicant Contact: Michelle Smith, Licensing and Compliance Manager; Public Utility District No. 1 of Chelan County, Washington; P.O. Box 1231; Wenatchee, WA 98807-1231; (509) 661-4180.

i. FERC Contact: Any questions on this notice should be addressed to Lesley Kordella at (202) 502-6406.

j. Deadline for filing comments and or motions: January 16, 2007.

All documents (original and eight copies) should be filed with: Ms. Magalie R. Salas, Secretary, Federal Energy Regulatory Commission, 888 First Street, NE., Washington DC 20426. Please include the project number (P-2145-077) on any comments or motions filed. Comments, protests, and interventions may be filed electronically via the Internet in lieu of paper. See, 18 CFR 385.2001(a)(1)(iii) and the instructions on the Commission's Web site under the “e-Filing” link. The Commission strongly encourages e-filings.

k. Description of Request: Public Utility District No. 1 of Chelan County, Washington (licensee) requests Commission approval to remove 40.35 acres from the project boundary, which is currently part of Daroga State Park and the project's exhibit R. The licensee also requests 21.87 acres of land owned by Auvil Fruit Company, Inc. be incorporated into the project boundary. This land is located approximately 30 miles upstream from the project near Chelan Falls. The licensee consulted with Washington State Parks and Recreation Commission, Colville Confederated Tribes, and the Yakama Nation prior to submitting the application to the Commission.

l. Location of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments: Federal, State, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. E6-21696 Filed 12-19-06; 8:45 am]

BILLING CODE 6717-01-P